DEPARTMENT OF TRANSPORTATION

Federal Transit Administration

[FTA Docket No. FTA 2021-0014]

Request for Information on Title VI Implementation

AGENCY: Federal Transit Administration, United States Department of Transportation (DOT).

ACTION: Notice of extension of comment period.

SUMMARY: The Federal Transit Administration (FTA) is extending the comment period for the request for information (RFI) regarding FTA's Title VI implementation, which was published on November 3, 2021, with the original comment period closing on December 3, 2021.

DATES: Comments are requested by January 3, 2022.

ADDRESSES: You may file comments identified by docket number FTA-2021-0014 by any of the following methods:

• Federal eRulemaking Portal: Go to https://www.regulations.gov and follow the online instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9:00 a.m. and 5:00 p.m. ET, Monday through Friday, except Federal holidays.

• Fax: (202) 493-2251.

Instructions: To ensure that your comments are filed correctly, please include the docket number provided [FTA-2021-0014] in your comments. If submitting via mail, hand delivery, or courier, please provide two printed copies. Comments received may be read at the Docket Management Facility, U.S. Department of Transportation, 1200 New Jersey Ave. SE, West Building Ground Floor, Room W12-140, Washington, DC 20590-0001. The hours of the docket are indicated above in the same location. Comments may also be viewed on the internet, identified by the docket number at the heading of this notice, at www.regulations.gov. Note that all comments received will be posted without change to www.regulations.gov, including any personal information provided.

Privacy Act: Except as provided below, all comments received into the docket will be made public in their entirety. The comments will be searchable by the name of the individual submitting the comment (or signing the comment, if submitted on behalf of an association, business, labor union, etc.). You should not include information in your comment that you do not want to be made public. You may review DOT's complete Privacy Act Statement in the Federal Register published on April 11, 2000 (65 FR 19477-78) or at www.transportation.gov/privacy.

FOR FURTHER INFORMATION CONTACT: Richie Nguyen, FTA Office of Civil Rights, 1200 New Jersey Avenue SE, Washington, DC 20590, (202) 366-2689 or richie.nguyen@dot.gov.

SUPPLEMENTARY INFORMATION: In a letter submitted to the docket dated November 18, 2021, the American Public Transportation Association (APTA), on behalf of more than 1,300 member organizations, requested a 30-day extension of the comment period seeking input on Title VI implementation published in the Federal Register on November 3, 2021 (86 FR 60735). As justification for this extension, APTA cited the upcoming holidays, increased grant activity with the recent signing of the recent infrastructure law, and ongoing responses to the COVID-19 pandemic as pulling transit systems in many directions. APTA believes an extension of time would facilitate its members' ability to formulate thoughtful and proactive comments responsive to FTA's request for information.

Given the importance of Title VI implementation and the desire for a robust dialogue on a possible update of FTA's Title VI Circular, FTA believes an extension of time is justified, and an additional 30 days in which to submit comments is adequate. FTA is not republishing the Questions to the Public in this document. Instead, please refer to the November 3, 2021 RFI (86 FR 60735) to view the original questions regarding Title VI implementation.

Scott Giering,
Deputy Associate Administrator for Civil Rights.

[FR Doc. 2021-25706 Filed 11-23-21; 8:45 am]

BILLING CODE 4910-57-P